SMALL BUSINESS ADMINISTRATION

[Monroe Capital Corporation SBIC, LP License No. 05/05-0314]

Notice Seeking Exemption Under Section 312 of the Small Business Investment Act, Conflicts of Interest

Notice is hereby given that Monroe Capital Corporation SBIC, LP, 311 S. Wacker Drive, Suite 6400, Chicago, IL 60606, a Federal Licensee under the Small Business Investment Act of 1958, as amended (the “Act”), in connection with the financing of a small concern, has sought an exemption under Section 312 of the Act and Section 107.730, Financings which Constitute Conflicts of Interest of the Small Business Administration (“SBA”) Rules and Regulations (13 CFR 107.730). Monroe Capital Corporation SBIC, LP proposes to provide debt and equity financing to Summit Container Corporation, 901 Synthes Avenue, Monument, CO 80132. This financing is brought within the purview of § 107.730(a)(1) of the Regulations because Associates Monroe Capital Corporation and Monroe Capital Partners Fund, L.P. each own greater than 10 percent ownership interest in Summit Container Corporation, so Summit Container Corporation is considered an Associate. In addition, this financing is brought within the purview of § 107.730(a)(4) of the Regulations because the proceeds will be used to discharge an obligation to an Associate of Monroe Capital Corporation SBIC, LP. Therefore this transaction requires prior SBA exemption.

Notice is hereby given that any interested person may submit written comments on the transaction, within fifteen days of the date of this publication, to the Associate Administrator for Investment, U.S. Small Business Administration, 409 Third Street SW., Washington, DC 20416.

Dated: July 2, 2014.
Javier E. Saade,
Administrator for Office of Investment and Innovation.

[FR Doc. 2014-16612 Filed 7-14-14; 8:45 am]

BILLING CODE 8025-01-P